DEPARTMENT OF THE TREASURY

Submission for OMB Review; Comment Request

January 28, 2014.

The Department of the Treasury will submit the following information collection requests to the Office of Management and Budget (OMB) for review and clearance in accordance with the Paperwork Reduction Act of 1995, Public Law 104-13, on or after the date of publication of this notice.

DATES: Comments should be received on or before March 3, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141-D, Washington, DC 20220, or email at PRA@treasury.gov.

FOR FURTHER INFORMATION CONTACT: Copies of the submission(s) may be obtained by calling (202) 622-1295, email at PRA@treasury.gov, or the entire information collection request may be found at www.reginfo.gov.

Alcohol and Tobacco Tax and Trade Bureau (TTB)

OMB Number: 1513-0036.

Type of Review: Extension without change of a currently approved collection.

Title: Signing Authority for Corporate Officials.

Form: TTB F 5100.1.

Abstract: TTB F 5100.1 is used to document the authority of an individual or office to sign for the corporation in TTB matters. The form identifies the corporation, the individual or, office authorized to sign, and documents the authorization.

Affected Public: Private sector: Businesses or other for-profits.

Estimated Annual Burden Hours: 502.

OMB Number: 1513-0041.

Type of Review: Revision of a currently approved collection.

Title: Monthly Report of Processing Operations—TTB REC 5110/03.

Form: TTB F 5110.28.

Abstract: The information collected accounts for and verifies the processing of distilled spirits in bond. It is used to monitor proprietor activities, in auditing plant operations, compiling statistics.

Affected Public: Private sector: Businesses or other for-profits; State, Local, and Tribal Governments.

Estimated Annual Burden Hours: 23,884.

OMB Number: 1513-0095.

Type of Review: Extension without change of a currently approved collection.

Title: Application for Registration for Tax-Free Transactions Under 26 U.S.C. 4221.

Form: TTB F 5300.28.

Abstract: Businesses, State and local governments apply for registration to sell or purchase firearms or ammunition tax-free on this form. TTB uses the form to determine if a transaction is qualified for tax-free status.

Affected Public: Private sector: Businesses or other for-profits; State, Local, and Tribal Governments.

Estimated Annual Burden Hours: 951.

Dawn D. Wolfgang,
Treasury PRA Clearance Officer.

[FR Doc. 2014-01980 Filed 1-30-14; 8:45 am]

BILLING CODE 4810-25-P